DEPARTMENT OF DEFENSE

Office of the Secretary

Notice of Federal Advisory Committee Meeting—Defense Advisory Committee on Investigation, Prosecution, and Defense of Sexual Assault in the Armed Forces

AGENCY: Department of Defense (DoD).

ACTION: Notice of Federal Advisory Committee meeting.

SUMMARY: The DoD is publishing this notice to announce that the following Federal Advisory Committee meeting of the Defense Advisory Committee on Investigation, Prosecution, and Defense (DAC-IPAD) of Sexual Assault in the Armed Forces will take place.

DATES: December 3, 2024, and December 4, 2024. Day 1, open to the public from 9:45 a.m. to 5 p.m. and day 2, open to the public from 1 p.m. to 5 p.m. Eastern Standard Time (EST).

ADDRESSES: The meeting will be held at the United States District Court for the District of Columbia, 333 Constitution Ave. NW, Washington, DC 20001. For virtual access to the meeting, email your request along with your name and contact information to the DAC-IPAD public email at whs.pentagon.em.mbx.dacipad@mail.mil. Further details are located in Meeting Accessibility below.

FOR FURTHER INFORMATION CONTACT: Dwight Sullivan, 703-695-1055 (Voice), dwight.h.sullivan.civ@mail.mil (Email). Mailing address is DAC IPAD, One Liberty Center, 875 N Randolph Street, Suite 150, Arlington, Virginia 22203. Website: https://dacipad.whs.mil/. The most up-to-date meeting agenda can be found on the website.

SUPPLEMENTARY INFORMATION: This meeting is being held under the provisions of chapter 10 of title 5 United States Code (U.S.C.) (commonly known as the “Federal Advisory Committee Act” or “FACA”), the Government in the Sunshine Act of 1976 (5 U.S.C. 552b, as amended), and 41 Code of Federal Regulations (CFR) 102-3.140 and 102-3.50.

Purpose of the Meeting: In section 546 of the National Defense Authorization Act (NDAA) for Fiscal Year (FY) 2015 (Public Law (Pub. L.) 113-291), as modified by section 537 of the NDAA for FY 2016 (Pub. L. 114-92), Congress tasked the DAC-IPAD to advise the Secretary of Defense on the investigation, prosecution, and defense of allegations of rape, sexual assault, and other sexual misconduct involving members of the Armed Forces. This will be the thirty-eighth public meeting held by the DAC-IPAD. On Day 1, the Committee will conduct deliberations on the DAC-IPAD draft report regarding provisions for enforcing victims' rights in Article 6b, Uniform Code of Military Justice (UCMJ). Next, the Committee will hear from healthcare experts concerning mental health treatment practices and the Military Rule of Evidence 513, psychotherapist-patient privilege. After a lunch break, the Committee will hear perspectives from military justice experts on a range of issues under consideration by the DAC-IPAD. For the last session, the Committee will hear from civilian practitioners on best practices for a holistic approach to Conviction Integrity Units. Day 2 will begin with the Committee conducting deliberations on the recent DAC-IPAD site visits. Following a break, the Committee will hear comments from the public, and prior to adjournment, receive updates from the DAC-IPAD subcommittees.

Agenda: Day 1: 9:45 a.m.-9:50 a.m. Welcome and Introduction to Public Meeting; 9:50 a.m.-10:30 a.m. Committee deliberations on DAC-IPAD Draft Report on Article 6b, UCMJ; 10:30 a.m.-11:30 a.m. Healthcare providers' perspectives on Military Rule of Evidence 513, Psychotherapist-patient privilege, in the Manual for Courts-Martial; 11:30 a.m.-12:40 p.m. Lunch; 12:40 p.m.-2 p.m. Chief, Trial Defense Services Organizations for each Military Service; 2 p.m.-2:15 p.m. Break; 2:15 p.m.-3:35 p.m. Lead Special Trial Counsel for each Military Service and the Chief Prosecutor for the U.S. Coast Guard; 3:35 p.m.-3:50 p.m. Break; 3:50 p.m.-5 p.m. Conviction Integrity Units: a holistic approach to ensuring conviction integrity; 5 p.m. Public Meeting Adjourned. Day 2: 1 p.m.-1:05 p.m. Welcome and Overview of Public Meeting; 1:05 p.m.-3:30 p.m. Site Visit Deliberations; 3:30 p.m.-3:45 p.m. Break; 3:45 p.m.-4:15 p.m. Public Comment; 4:15 p.m.-5 p.m. Subcommittee updates and meeting wrap-up; 5:00 p.m. Public Meeting Adjourned.

Meeting Accessibility: Pursuant to 5 U.S.C. 552b and 41 CFR 102-3.140 through 102-3.165, this meeting is open to the public from 9:45 a.m. to 5 p.m. EST on December 3, 2024, and from 1 p.m. to 5 p.m. EST on December 4, 2024. All members of the public who wish to participate virtually must register by contacting DAC-IPAD at whs.pentagon.em.mbx.dacipad@mail.mil or by contacting Mr. Pete Yob at (703) 693-3857 no later than 8:00 a.m. EST, Tuesday, December 3, 2024. Once registered, the web address and/or audio number will be provided.

Special Accommodations: Individuals requiring special accommodations to access the public meeting should contact Mr. Pete Yob at (703) 693-3857 no later than November 26, 2024 so that appropriate arrangements can be made.

Written Statements: Pursuant to 41 CFR 102-3.140 and 10(a)(3) of the FACA, the public or interested organizations may submit written comments to the Committee about its mission and topics pertaining to this public session. Written comments must be received by the DAC-IPAD at least five (5) business days prior to the meeting date so that they may be made available to the Committee members for their consideration prior to the meeting. Written comments not received by the DAC-IPAD at least five (5) business days prior to the meeting date, or after, will be provided to the Chair of the DAC IPAD for consideration. Written comments may be submitted via email to the DAC-IPAD at whs.pentagon.em.mbx.dacipad@mail.mil in the following formats: Adobe Acrobat or Microsoft Word. Written comments may also be mailed to the address listed in FOR FURTHER INFORMATION CONTACT. Please note that since the DAC-IPAD operates under the provisions of the FACA, all written comments received will be treated as public documents and will be made available for public inspection.

Oral public comments: Individuals may submit a request to make an oral public comment at the December 4, 2024 meeting. Advance copy of oral public comments must be sent via email at whs.pentagon.em.mbx.dacipad@mail.mil with the subject line “DAC-IPAD: Request to Speak <insert the issue and question>” no later than 11:59 p.m. EST on Tuesday, November 26, 2024. Submissions received after the deadline will not be considered for oral public comment but will be provided to the Chair of the DAC IPAD for consideration. All submitted oral comments become government property and may be published as part of the meeting record.

Registration for oral public comment is on a first-come, first-served basis. Comments are limited to five (5) minutes or less per person. After the maximum number of speakers is exceeded, individuals registered to provide oral comment will be placed on a wait list and notified should an opening become available. Should time expire for oral public comments those not presented will be provided to the Chair of the DAC IPAD for consideration. You will be notified via email no later than December 3, 2024 if you have been identified to provide in-person public comment.

Dated: November 8, 2024.
Stephanie J. Bost,
Alternate OSD Federal Register Liaison Officer, Department of Defense.

[FR Doc. 2024-26521 Filed 11-13-24; 8:45 am]

BILLING CODE 6001-FR-P